DEPARTMENT OF HEALTH AND HUMAN SERVICES

Administration for Children and Families

Submission for OMB Review; Comment Request

Title: Purchase, Construction and Major Renovation of Head Start Facilities.

OMB No.: 0970-0193.

Description: The Office of Head Start within the Administration for Children and Families, United States Department of Health and Human Services, is proposing to renew authority to collect information on funding for the purchase, construction or renovation of facilities. All information is collected electronically through the Head Start Enterprise System (HSES). The information required is in conformance with Section 644 (f) and (g) of the Act. Federal funding officials use the information to determine that the proposed purchase has resulted in savings when compared to the costs that would be incurred to acquire the use of an alternative facility, or that the lack of alternative facilities will prevent, or would have prevented, the operation of the program. The rule further describes the assurances which are necessary to protect the Federal interest in real property and the conditions under which federal interest may be subordinated and protected when grantees make use of debt instruments when purchasing facilities. The information is used by funding officials to determine if grantee's arrangements adequately conform to other applicable statutes which apply to the expenditure of public funds for the purchase of real property.

Respondents: Head Start and Early Head Start program grant recipients.

Annual Burden Estimates
Instrument | Number of respondents | Number of responses per respondent | Average burden hours per response | Total burden hours
Administrative Requirements | 225 | 1 | 41 | 9225

Estimated Total Annual Burden Hours: 9225.

Cost per respondent is $40 estimated at 2 hours x $20.00 per hour.

Additional Information: Copies of the proposed collection may be obtained by writing to the Administration for Children and Families, Office of Planning, Research and Evaluation, 370 L'Enfant Promenade, SW., Washington, DC 20447, Attn: ACF Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7285, Email: OIRA_SUBMISSION@OMB.EOP.GOV, Attn: Desk Officer for the Administration for Children and Families.

Robert Sargis,
Reports Clearance Officer.

[FR Doc. 2015-21304 Filed 8-27-15; 8:45 am]

BILLING CODE 4184-01-P